DEPARTMENT OF ENERGY

Federal Energy Regulatory Commission

Docket Nos. CP18-102-000;CP18-103-000]

Notice of Availability of the Environmental Assessment for the Proposed Cheyenne Connector, LLC Cheyenne Connector Pipeline and Rockies Express Pipeline LLC Cheyenne Hub Enhancement Projects

The staff of the Federal Energy Regulatory Commission (FERC or Commission) has prepared an environmental assessment (EA) for the Cheyenne Connector Pipeline Project and the Cheyenne Hub Enhancement Project, proposed respectively by Cheyenne Connector, LLC and Rockies Express Pipeline LLC (Rockies Express) in the above-referenced docket. The applicants request authorization to construct approximately 71 miles of new 36-inch-diameter pipeline, five new meter and regulating stations, and one new compressor station, as described further below. All proposed facilities would be in Weld County, Colorado.

The EA assesses the potential environmental effects of the construction and operation of the Cheyenne Connector Pipeline and Cheyenne Hub Enhancement Projects in accordance with the requirements of the National Environmental Policy Act (NEPA). The FERC staff concludes that approval of the proposed projects, with appropriate mitigating measures, would not constitute a major federal action significantly affecting the quality of the human environment.

The Cheyenne Connector Pipeline Project includes the following facilities:

• Approximately 71 miles of 36-inch-diameter pipeline with ancillary facilities including three mainline valves; and

• five associated meter and regulating stations.

The Cheyenne Hub Enhancement Project includes the following facilities:

• One new approximately 32,100 horsepower compressor station;

• enhancements to modify Rockies Express' existing Cheyenne Hub interconnect facilities, including installation of pipe, valves, fittings, filters, and ancillary equipment; and

• ancillary facilities constructed at Rockies Express' existing Cheyenne Hub pursuant to 18 CFR 2.55(a), consisting of station piping, vibration reducing equipment, compressor and electrical buildings, valves, and gas cooling equipment.

The Commission mailed a copy of the Notice of Availability for the EA to federal, state, and local government representatives and agencies; elected officials; environmental and public interest groups; Native American tribes; potentially affected landowners and other interested individuals and groups; and newspapers and libraries in the projects' areas. The EA is only available in electronic format. It may be viewed and downloaded from the FERC's website (www.ferc.gov), on the Environmental Documents page (https://www.ferc.gov/industries/gas/enviro/eis.asp). In addition, the EA may be accessed by using the eLibrary link on the FERC's website. Click on the eLibrary link (https://www.ferc.gov/docs-filing/elibrary.asp), click on General Search, and enter the docket number in the “Docket Number” field, excluding the last three digits (i.e., CP18-102 or CP18-103). Be sure you have selected an appropriate date range. For assistance, please contact FERC Online Support at FercOnlineSupport@ferc.gov or toll free at (866) 208-3676, or for TTY, contact (202) 502-8659.

Any person wishing to comment on the EA may do so. Your comments should focus on the EA's disclosure and discussion of potential environmental effects, reasonable alternatives, and measures to avoid or lessen environmental impacts. The more specific your comments, the more useful they will be. To ensure that the Commission has the opportunity to consider your comments prior to making its decision on these projects, it is important that we receive your comments in Washington, DC on or before 5:00 p.m. Eastern Time on January 17, 2019.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to Documents and Filings. This is an easy method for submitting brief, text-only comments on a project;

(2) You can also file your comments electronically using the eFiling feature on the Commission's website (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address. Be sure to reference the project docket number (CP18-102-000 and/or CP18-103-000) with your submission: Kimberly D. Bose, Secretary, Federal Energy Regulatory Commission, 888 First Street NE, Room 1A, Washington, DC 20426.

Any person seeking to become a party to the proceeding must file a motion to intervene pursuant to Rule 214 of the Commission's Rules of Practice and Procedures (18 CFR 385.214). Motions to intervene are more fully described at http://www.ferc.gov/resources/guides/how-to/intervene.asp. Only intervenors have the right to seek rehearing or judicial review of the Commission's decision. The Commission may grant affected landowners and others with environmental concerns intervenor status upon showing good cause by stating that they have a clear and direct interest in this proceeding which no other party can adequately represent. Simply filing environmental comments will not give you intervenor status, but you do not need intervenor status to have your comments considered.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: December 18, 2018.
Kimberly D. Bose,
Secretary.

[FR Doc. 2018-27958 Filed 12-26-18; 8:45 am]

BILLING CODE 6717-01-P